DEPARTMENT OF THE INTERIOR

Office of the Secretary

[133D5670LC DLCAP0000.000000 DS10100000 DX.10129]

Land Buy-Back Program for Tribal Nations Under Cobell Settlement

AGENCY: Office of the Deputy Secretary, Interior.

ACTION: Notice.

SUMMARY: On November 4, 2015, the Department of the Interior released the 2015 Status Report for the Land Buy-Back Program for Tribal Nations (Buy-Back Program or Program), which summarizes its implementation to date: https://www.doi.gov/buybackprogram/about. Since December 2013, the Program has paid nearly $715 million to individual landowners and has restored approximately 1.5 million acres of land to tribal governments.

The Report highlights the Program's launch of two efforts to help determine its next implementation schedule. The two-pronged planning initiative seeks input from tribal governments and landowners who are interested in participating in the Program. Eligible tribal governments not already scheduled for implementation are invited to formally indicate their interest in participating in the Program no later than March 11, 2016. More information is available to tribal leaders at: https://www.doi.gov/buybackprogram/tribes. Additionally, the Program has launched a nationwide recruitment drive to identify and engage landowners who are interested in learning more about this opportunity.

The Department also announced that Deputy Secretary Connor will host a Listening Session on March 3, 2016, at the Albuquerque Convention Center in Albuquerque, New Mexico, from 1:00-5:00 p.m. MT.

DATES: The Department will accept expressions of interest from eligible tribal governments that exercise jurisdiction over locations not on its current implementation schedule until March 11, 2016. Interested landowners are strongly encouraged to contact the Trust Beneficiary Call Center (Call Center) at 888-678-6836 to register their interest and confirm contact information by that same deadline, in order for their interest to be incorporated as a factor as the Program develops its next implementation schedule.

FOR FURTHER INFORMATION CONTACT: Tribal staff should contact buybackprogram@ios.doi.gov with questions regarding the expressions of interest. Landowners seeking to register their interest should contact the Call Center at (888) 678-6836.

SUPPLEMENTARY INFORMATION:

I. Background

The Buy-Back Program is the Department of the Interior's collaborative effort with Indian Country to realize the historic opportunity afforded by the Cobell Settlement—a $1.9 billion Trust Land Consolidation Fund—to compensate individuals who voluntarily choose to sell fractional land interests for fair market value. Purchased lands are then transferred to the tribal government with jurisdiction for uses to benefit the tribal community as a whole.

Individuals who accept their purchase offers receive payments directly into their Individual Indian Money accounts at the Office of Special Trustee for American Indians (OST). In addition to receiving fair market value based on objective appraisals, individuals also receive a base payment of $75 per offer, regardless of the value of the land.

The Department is currently implementing the Buy-Back Program at multiple locations across Indian Country. Thus far, the Program has paid nearly $715 million directly to individuals who have chosen to sell fractional interests. This has restored the equivalent of more than 1.5 million acres to tribes. Our working relationships with tribes (25 cooperative agreements or other arrangements to date) and continued outreach to landowners are important elements of continued progress.

II. Planning Initiative—Tribal Nations

The Buy-Back Program's implementation schedule has thus far been guided by various planning activities, an open solicitation from November 2013-March 2014, and by a number of factors developed in partnership with tribal leaders and individuals through early Program consultation and one-on-one meetings. Those factors include severity of fractionation; degree of ownership overlap between locations; geographic location to maximize efficiency and resources; appraisal complexity; and overall interest of a tribe.

Using this strategy, the Department identified 42 locations where land consolidation activities—such as planning, outreach, mapping, mineral evaluations, appraisals or acquisitions—are expected to take place through the middle of 2017. These communities represented approximately 83 percent of all outstanding fractional interests across Indian Country. More information on this selection can be found in the Program's 2014 Status Report: https://www.doi.gov/sites/doi.gov/files/uploads/Buy-BackProgramStatusReport-11-20-14.pdf.

The Program is currently inviting all eligible tribal governments that exercise jurisdiction over locations not on its current implementation schedule to submit expressions of interest regarding participation. In addition to noting any interest, the Program also seeks to understand what plans each tribal government may have to utilize consolidated lands, such as economic development, additional housing, infrastructure improvements, habitat protection, and cultural preservation. Details regarding this solicitation are available at https://www.doi.gov/buybackprogram/tribes. This will likely be one of the final opportunities for the remaining eligible tribal governments to register their interest in participating in the Program. The Program will accept expressions of interest through March 11, 2016.

III. Planning Initiative—Interested Landowners

There are about 245,000 owners of nearly three million fractional interests across Indian Country who are eligible to participate in the Buy-Back Program. Many receive little or no economic benefit from what are often small, undivided interests in lands that cannot be utilized due to their highly fractionated state.

Since the inception of the Buy-Back Program, it has been a priority to provide as much access to information as possible to landowners who may be interested in participating. Across the Department, teams within the Offices of the Secretary and Deputy Secretary, OST and the Bureau of Indian Affairs (BIA) have conducted significant outreach to provide resources to individuals so that they may make informed decisions about the use of their fractional land.

The level of interest—or willing sellers—registered with the Department has always been one of the determining factors as the Program develops its implementation schedules. In fact, we have identified more than 15,000 unique willing sellers across the country. The Program has now launched a nationwide recruitment drive to further identify and engage landowners who are interested in participating in the Program.

Interested landowners should call the Call Center at (888) 678-6836 to register their interest and confirm contact information. While landowners who do not register as willing sellers may still receive an offer, contacting the Call Center is the best way to ensure that the Program is aware of their interest in receiving and considering an offer. Registration in no way commits a landowner to sell their land and is no guarantee that they will receive an offer; it merely identifies the landowner's interest in receiving an offer.

IV. Additional Resources

Information about the Program is available at: http://www.doi.gov/buybackprogram. To learn more about how the Program works, understand the appraisal process, or receive financial training and resources to think strategically about how to use funds they may receive, individuals can contact the Call Center or visit their local OST or BIA office.

Extensive frequently asked questions and answers are also online at: http://www.doi.gov/buybackprogram/landowners/upload/Frequently-Asked-Questions.pdf.

Dated: December 21, 2015.
Michael L. Connor,
Deputy Secretary.

[FR Doc. 2016-00496 Filed 1-12-16; 8:45 am]

BILLING CODE 4310-10-P